DEPARTMENT OF TRANSPORTATION

National Highway Traffic Safety Administration

49 CFR Parts 591 and 592

[Docket No. NHTSA-2015-0076]

RIN 2127-AL63

Allowing Importers To Provide Information to U.S. Customs and Border Protection in Electronic Format

AGENCY: National Highway Traffic Safety Administration (NHTSA), Department of Transportation (DOT).

ACTION: Final rule.

SUMMARY: On September 2, 2015, the National Highway Traffic Safety Administration (NHTSA) published an interim final rule and request for comment entitled “Allowing Importers to Provide Information to U.S. Customs and Border Protection in Electronic Format.” No comments were received in response to the interim final rule. Accordingly, this final rule confirms that the September 2, 2015 interim final rule will not be changed and its effective date is September 2, 2015.

DATES: Effective December 23, 2015.

FOR FURTHER INFORMATION CONTACT: Arija Flowers, Trial Attorney, Office of the Chief Counsel, National Highway Traffic Safety Administration, 1200 New Jersey Avenue SE., Washington, DC 20590 (telephone: 202-366-5263).

SUPPLEMENTARY INFORMATION: As NHTSA received no comments on its interim final rule published on September 2, 2015 (80 FR 53011), the agency is making no changes to the rule and its effective date is September 2, 2015. For regulatory analyses and notices associated with this action, please see the interim final rule published at 80 FR 53011.

Accordingly, the interim rule amending 49 CFR parts 591 and 592, published at 80 FR 53011 on September 2, 2015, is adopted as final without change.

Issued in Washington, DC, on December 17, 2015 under authority delegated in 49 CFR part 1.95.
Mark R. Rosekind,
Administrator.

[FR Doc. 2015-32260 Filed 12-22-15; 8:45 am]

BILLING CODE 4910-59-P